NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 13, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2010-011

1. Applicant: Daniel P. Costa, Department of Ecology and Evolutionary Biology, University of California Santa Cruz, Long Marine Lab, 100 Shaffer Road, Santa Cruz, CA 95060.

Activity for Which Permit Is Requested

Take and Enter Antarctic Specially Protected Areas. The applicant plans to enter Cape Crozier (ASPA 124), Beaufort Island (ASPA 105), New College Valley, Caughley Beach, Cape Bird (ASPA 116), Cape Royds (ASPA 121), Northwest White Island (ASPA 137), Botany Bay (ASPA 154), Cape Evans (ASPA 155), Backdoor Bay, Cape Royds (ASPA 157), Terra Nova Bay (ASPA 161), and Edmonson Point, Wood Bay (ASPA 165) to locate seals. Up to 40 Weddell, Crabeater, Ross, Leopard and Elephant seal pups will be captured annually and will be instrumented with Sea Mammal Research Units (SMRU) Conductivity-Temperature-Depth Satellite Relay Data Logger (CTD-SRDL) tags to monitor overwinter dive behaviors and oceanography. The tags will be applied with epoxy. In addition, the seals will be flipper tagged, dye marked, blood, tissue and whisker samples collected, weighed, length and girth measured, and body condition determined by morphometric measurements.

Location

Cape Crozier (ASPA 124), Beaufort Island (ASPA 105), New College Valley, Caughley Beach, Cape Bird (ASPA 116), Cape Royds (ASPA 121), Northwest White Island (ASPA 137), Botany Bay (ASPA 154), Cape Evans (ASPA 155), Backdoor Bay, Cape Royds (ASPA 157), Terra Nova Bay (ASPA 161), and Edmonson Point, Wood Bay (ASPA 165).

Dates

January 1, 2010 to December 31, 2012.

Nadene G. Kennedy,
Permit Officer, Office of Polar Programs.

[FR Doc. E9-21795 Filed 9-9-09; 8:45 am]

BILLING CODE 7555-01-P